DEPARTMENT OF HOMELAND SECURITY

Coast Guard

33 CFR Part 117

[Docket No. USCG-2022-0222]

RIN 1625-AA09

Drawbridge Operation Regulation; Okeechobee Waterway, Stuart, FL

AGENCY: Coast Guard, Department of Homeland Security (DHS).

ACTION: Notification of temporary deviation from regulations; reopening of comment period.

SUMMARY: The Coast Guard is reopening the comment period to solicit additional comments concerning its notice of temporary deviation to the regulation governing the Florida East Coast (FEC) Railroad Bridge, across the Okeechobee Waterway (OWW), mile 7.41, at Stuart, FL. The expected increase in railway service was delayed and did not commence until late September 2023. Due to this delay, it was determined that we did not afford the public adequate opportunity to provide comments. We are reopening the comment period to allow the public more time to comment. The comment period is now open until November 30, 2023.

DATES: The comment period for the temporary deviation published August 11, 2023 (88 FR 54487) is reopened. Comments and relate material must reach the Coast Guard on or before November 30, 2023.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this temporary deviation, call, or email Ms. Jennifer Zercher, Bridge Management Specialist, Seventh Coast Guard District; telephone 305-415-6740, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

FEC Florida East Coast

FL Florida

II. Background and Purpose

On June 23, 2023, we published a temporary deviation entitled, “Drawbridge Operation Regulation; Okeechobee Waterway, Stuart, FL” in the Federal Register (88 FR 37470). The original comment period closed on August 4, 2023. Based on the comments received and other concerns that were voiced by the public, we rescinded that test deviation, and published a new one.

On August 11, 2023, we published second a temporary deviation entitled, “Drawbridge Operation Regulation; Okeechobee Waterway, Stuart, FL” in the Federal Register (88 FR 54487). The second comment period closed on October 15, 2023. The temporary deviations are testing a more predictable operating schedule for the FEC Railroad Bridge and contains useful background and analysis related to the temporary deviation. The public is encouraged to review the temporary deviation.

We originally set a 60-day comment period for the temporary deviation and determined reopening the comment period until the end of the temporary deviation is necessary due to the delay in the start of additional railway service. Additional railway service was delayed and did not commence until late September 2023. We feel the start of additional railway service so close to the end of the comment period did not afford the public adequate opportunity to provide comments.

This notice to reopen the comment period ensures notice and opportunity to comment on the operation of the drawbridge before determining whether a permanent change to the schedule is needed.

The comment period is now open through November 30, 2023. Any comments received in the period between when the initial comment period closed on October 15, 2023 and the reopening of the comment period on November 7, 2023 will also be considered.

This notice is issued under authority of 33 U.S.C. 1223 and 5 U.S.C. 552.

III. Public Participation and Request for Comments

We view public participation as essential to determining the needs of the public and will consider all comments and material received during the comment period. Your comment can help shape the outcome of future actions. If you submit a comment, please include the docket number for this test deviation, indicate the specific section of this document to which each comment applies, and provide a reason for each suggestion or recommendation.

Submitting comments. We encourage you to submit comments through the Federal Decision Making Portal at https://www.regulations.gov. To do so, go to https://www.regulations.gov, type USCG- 2022-0222 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this test deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments, future actions or updates are posted to the docket.

We review all comments received, but we will only post comments that address the topic of the test deviation. We may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Dated: October 30, 2023.
Douglas M. Schofield,
Rear Admiral, U.S. Coast Guard, Commander, Coast Guard Seventh District.

[FR Doc. 2023-24528 Filed 11-6-23; 8:45 am]

BILLING CODE 9110-04-P